DEPARTMENT OF COMMERCE

International Trade Administration

[A-533-810]

Stainless Steel Bar From India; Notice of Extension of Time Limit for Administrative Review and New Shipper Review

AGENCY: Import Administration, International Trade Administration, Department of Commerce.

ACTION: Notice of Extension of Time Limit for Final Results of 1998-1999 Antidumping Duty Administrative Review and New Shipper Review of Stainless Steel Bar From India.

SUMMARY: The Department of Commerce is extending the time limit for the final results of the fourth administrative review and new shipper review of the antidumping duty order on stainless steel bar from India. The period of review for both segments of the proceeding is February 1, 1998 through January 31, 1999. This extension is made pursuant to section 751(a)(3)(A) of the Tariff Act of 1930, as amended by the Uruguay Round Agreements Act.

EFFECTIVE DATE: July 12, 2000.

FOR FURTHER INFORMATION CONTACT: Zak Smith or Meg Weems, Office 1, Import Administration, International Trade Administration, U.S. Department of Commerce, 14th Street and Constitution Avenue, NW., Washington, DC 20230; telephone (202) 482-0189 or (202) 482-2613, respectively.

SUPPLEMENTARY INFORMATION:

Applicable Statute

Unless otherwise indicated, all citations to the Tariff Act of 1930, as amended (“the Act”), are references to the provisions effective January 1, 1995, the effective date of the amendments made to the Act by the Uruguay Round Agreements Act (“URAA”). In addition, all references to the Department of Commerce's (“the Department's”) regulations are to 19 CFR part 351 (April 1999).

Statutory Time Limits

Under section 751(a)(3)(A) of the Act, the Department may extend the deadline for completion of an administrative review if it determines that it is not practicable to complete the review within the statutory time limit of 120 days after the date on which the notice of preliminary results was published in the Federal Register.

On March 31, 1999, the new shipper, Meltroll Engineering Pvt. Ltd., requested that the Department align the new shipper review with the administrative review (see also Meltroll letter dated 21 June 2000 specifically waiving statutory time limits). The time limits prescribed for a new shipper review under section 751(a)(2)(B)(iv) of the Act differ from those of an administrative review under section 751(a)(3) of the Act. Pursuant to Meltroll's request and 19 CFR 351.214(j)(3), the Department is now aligning both reviews and the time limits for the administrative review under section 751(a)(3) of the Act will now also apply to the new shipper review.

Extension

On March 8, 2000, we published the preliminary results of review (65 FR 12209). In our notice of preliminary results, we stated our intention to issue the final results of these reviews no later than July 6, 2000.

Due to limited resources, we find it not practicable to complete the reviews within the originally anticipated time limit. Specifically, the Department personnel responsible for completing these reviews will be on verification for a separate proceeding for several weeks preceding the current deadline. Therefore, the Department is extending the time limit for completion of the final results to not later than August 4, 2000, in accordance with section 751(a)(3)(A) of the Act.

We are issuing and publishing this notice in accordance with sections 751(a)(1) and 777(i)(1) of the Act.

Dated: June 30, 2000.
Richard W. Moreland,
Deputy Assistant Secretary for Import Administration.

[FR Doc. 00-17644 Filed 7-11-00; 8:45 am]

BILLING CODE 3510-DS-P